DEPARTMENT OF COMMERCE

National Oceanic and Atmospheric Administration

[RTID 0648-XE663]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Mariana Archipelago Fishery Ecosystem Plan (FEP) Commonwealth of the Northern Mariana Islands (CNMI) Advisory Panel (AP), CNMI Regional Ecosystem Advisory Committee (REAC), Fishing Industry Advisory Committee (FIAC), Mariana Archipelago FEP Guam AP, and the Guam REAC to discuss and make recommendations on fishery management issues in the Western Pacific Region.

DATES: The meetings will be held between February 26, 2025 and March 4, 2025. For specific times and agendas, see SUPPLEMENTARY INFORMATION.

ADDRESSES: The Council will hold its Mariana Archipelago FEP CNMI AP, CNMI REAC, FIAC, Mariana Archipelago FEP Guam AP, and the Guam REAC meetings in a hybrid format with in-person and remote participation (Webex) options available for the members and the public. The FIAC meeting will be held in a virtual format with remote participation (Webex) options available for the members and the public.

• In person attendance for the CNMI REAC and public will be hosted at the CNMI Crowne Place Hibiscus Hall, Coral Tree Ave., Garapan, Saipan, 96950.

• In-person attendance for the Mariana Archipelago FEP CNMI AP and public will be hosted at CNMI Crowne Place Hibiscus Hall, Coral Tree Ave., Garapan, Saipan, 96950.

• In-person attendance for Guam REAC and public will be hosted at the Guam Hilton Micronesian Room, 202 Hilton Road, Tumon Bay, Guam, 96913.

• In-person attendance for the Mariana Archipelago FEP Guam AP and public will be hosted at Guam Hilton Chuchuko Room, 202 Hilton Road, Tumon Bay, Guam, 96913.

Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; phone: (808) 522-8220.

SUPPLEMENTARY INFORMATION: The Mariana Archipelago FEP CNMI AP will meet on Wednesday, February 26, from 6:30 p.m.to 9 p.m. (Chamorro Standard Time [ChST]), the CNMI REAC will meet on Thursday, February 27, from 8 a.m. to 12 p.m. (ChST), the FIAC will meet on Thursday, February 27, from 2 p.m. to 5 p.m. (HST), the Mariana Archipelago FEP Guam AP will meet on Monday, March 3, from 6:30 p.m. to 9 p.m. (ChST), and the Guam REAC will meet on Tuesday, March 4, from 8:30 a.m. to 12 noon (ChST).

Public Comment periods will be provided in the agendas. The order in which agenda items are addressed may change. The meetings will run as late as necessary to complete scheduled business.

Schedule and Agenda for the Mariana Archipelago FEP CNMI AP Meeting

Wednesday, February 26, 2025, 6:30 p.m. to 9 p.m. (ChST)

1. Welcome and Introductions

2. Review of Last AP Recommendations and Meeting

3. Council Fisheries Issues

a. Status of Fisheries Development

4. Council Inflation Reduction Act (IRA) Discussions

A. Scenario Planning

i. Small-Boat Fisheries

ii. Scenario Planning

B. Regulatory Review

i. Updates on Potential New Regulations

ii. Fisheries Issues and Concerns

C. Community Consultation

i. 2024 Fisher Observations Results

ii. FishMaps

5. AP Strategic Planning for 2025

6. Public Comment

7. Discussion and Recommendations

8. Other Business

Schedule and Agenda for the CNMI REAC Meeting

Thursday, February 27, 2025, 8 a.m. to 12 Noon (ChST)

1. Welcome and Introductions

2. Opening Remarks

3. Overview of the CNMI REAC

4. Review of 2023 REAC Meeting and Recommendations

5. Regulatory Review, Community Consultation and Planning through the IRA

a. Fishery Monitoring and Management Regime

i. Marianas FEP Overview

ii. Status of CNMI Mandatory Data Implementation Plan

iii. Mariana Small-Boat Economic Survey

iv. NMFS 2025 Mariana Archipelago Survey

b. Climate Impacts on Fisheries and Communities

i. Agency Initiatives Addressing Climate Impacts on Fisheries and Coastal Resources

ii. Community-Based Fishery Management Plan

iii. FishMaps

iv. Future Scenarios for CNMI Small-Boat Fisheries

6. Community Fisheries

a. Concerns of Military Impacts on Local Fisheries

b. Fishery Development and Training Opportunities

c. Supporting Local Caught Versus Import Fish

7. Public Comment

8. Discussion and Recommendations

9. Other Business

Schedule and Agenda for the FIAC Meeting

Thursday, February 27, 2025, 2 p.m. to 5 p.m. (HST)

1. Welcome and Introductions

2. Status Report on Previous FIAC Recommendations

3. Roundtable update on Fishing, Market Issues, and Impacts

4. U.S. Catch Limits for North Pacific Striped Marlin

5. Hawaii and American Samoa Longline fisheries Crew Training Requirement Status Report

6. Status on Development of an Electron Monitoring Program for Western Pacific Longline Fisheries

7. Scop of Hawaii Shark Protection Act

8. Proposed Hawaii Seafood Labeling Law

9. Update on IRA Projects

a. Scenario Planning

b. Regulatory Review

c. Community Consultation

10. Other Issues

11. Public Comment

12. Discussion and Recommendations

Schedule and Agenda for the Mariana Archipelago FEP Guam AP Meeting

Monday, March 3, 2025, 6:30 p.m. to 9 p.m. (ChST)

1. Welcome and Introductions

2. Review of the Last AP Recommendations and Meeting

3. Council IRA Project Discussions

A. Scenario Planning

i. Small-Boat Fisheries

ii. Scenario Planning

B. Regulatory Review

i. Updates on Potential New Regulations

ii. Fisheries Issues and Concerns

C. Community Consultation

i. 2024 Fisher Observations Results

ii. FishMaps

4. AP Strategic Planning for 2025

5. BOEM COI for Guam Offshore Wind Energy

6. Strategic Shift for the Bottomfish Independent Survey in Guam

7. Guam Military Working Group Update

8. Public Comment

9. Discussion and Recommendations

10. Other Business

Schedule and Agenda for the Guam REAC Meeting

Tuesday, March 4, 2025, 8:30 a.m. to 12 Noon (ChST)

1. Welcome and Introductions

2. Opening Remarks

3. About the Guam REAC

4. Report on the 2023 REAC Recommendations and Meeting

5. Regulatory Review, Community Consultation and Planning through the IRA

a. Fishery Monitoring and Management Regime

i. Marianas FEP Overview

ii. Mariana Small-Boat Economic Survey

iii. NMFS 2025 Mariana Archipelago Survey

b. Climate Impacts on Fisheries and Communities

i. Agency Initiatives Addressing Climate Impacts on Fisheries and Coastal Resources

ii. Community-Based Fishery Management Plan

iii. FishMaps

iv. Future Scenarios for Guam Small-Boat Fisheries

6. Guam Fishery Issues

a. Report on Military Activities in Guam

i. Status of Marine Corps Base Camp Blaz Firing Ranges

ii. Report from Council Military Working Group

b. Bureau of Ocean and Energy Management Call for Information on Offshore Energy in Guam

7. Public Comments

8. Discussion and Recommendations

9. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 6, 2025.
Rey Israel Marquez,
Acting Deputy Director, Office of Sustainable Fisheries, National Marine Fisheries Service.

[FR Doc. 2025-02502 Filed 2-11-25; 8:45 am]

BILLING CODE 3510-22-P